DEPARTMENT OF LABOR

Office of the Secretary

Submission for OMB Review: Comment Request

August 12, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Employer's First Report of Injury or Occupational Disease; Physician's Report on Impairment of Vision; and Employer's Supplementary Report of Accident or Occupational Illness.

OMB Number: 1215-0031.

Frequency: On occasion.

Type of Response: Reporting.

Affected Public: Business and other for-profit and not-for-profit institutions.

Number of Respondents: 21,060.

Form | Annual responses | Average response time hours | Annual burden hours
LS-202 | 21,000 | 0.25 | 5,250
LS-205 | 60 | 0.75 | 45
LS-210 | 2,160 | 0.25 | 540
Total | 23,220 |  | 5,835

Total Annualized capital/startup costs: $0.

Total Annual Costs (operating/maintaining systems or purchasing services): $10,333.

Description: The Longshore and Harbor Workers' Compensation Act provides benefits to workers injured in maritime employment on the navigable waters of the United States and adjoining area customarily used by an employee in loading, unloading, repairing, or building a vessel. The Form LS-202 is used by employers initially to report injuries that have occurred which are covered under the Longshore Act and its related statutes. The Form LS-210 is used to report additional periods of lost time from work. The Form LS-205 is a medical report based on a comprehensive examination of visual impairment. Regulatory authority is found in 20 CFR 702.201, 702.202, and 702.407.

Agency: Employment Standards Administration.

Type of Review: Extension of currently approved collection.

Title: Operator Controversion; Operator Response; Operator Response to Schedule for Submission of Additional Evidence; and Operator Response to Notice of Claim.

OMB Number: 1215-0058.

Frequency: On occasion.

Type of Response: Reporting.

Affected Public: Business or other for-profit and State, local, or tribal government.

Number of Respondents: 8,200.

Form | Annual responses | Average response time hours | Annual burden hours
CM-970 | 100 | 0.25 | 25
CM-970a | 100 | 0.17 | 17
CM-2970 | 4,000 | 0.17 | 667
CM-2970a | 4,000 | 0.25 | 1,000
Total | 8,200 |  | 1,709

Total Annualized capital/startup costs: $0.

Total Annual Costs (operating/maintaining systems or purchasing services): $3,280.

Description: The Black Lung Benefits Act (30 U.S.C. 901 et seq.) provides benefits to coal miners totally disabled due to pneumoniosis, and their surviving dependents. When the Division of Coal Mine Workers' Compensation makes an initial finding that an applicant is eligible for benefits, and, if a coal mine operator has been identified as potentially liable for payment of those benefits, the responsible operator is notified of the initial finding. The CM-970 gives the operator an opportunity to controvert the liability. The CM-970A is sent to the operator with the Notice of Claim notifying the operator of potential liability of payment for benefits. The CM-970A gives the operator an opportunity to agree or disagree with the identification. The CM-970A is used for all claims filed before January 19, 2001. The CM-2970 and CM-2970A serve the same purposes as the CM-970 and CM-970A; however, these forms are be used for all claims filed after January 19, 2001. Regulatory authority is found in 20 CFR 725.408, 725.410, 725.412, and 725.413.

Ira Mills,
Departmental Clearance Officer.

[FR Doc. 04-19001 Filed 8-18-04; 8:45 am]

BILLING CODE 4510-CF-P